DEPARTMENT OF THE INTERIOR

National Park Service

Notice of Inventory Completion: Thomas Burke Memorial Washington State Museum, University of Washington, Seattle, WA

AGENCY: National Park Service, Interior.

ACTION: Notice.

Notice is here given in accordance with the Native American Graves Protection and Repatriation Act (NAGPRA), 25 U.S.C. 3003, of the completion of an inventory of human remains in the control of the Thomas Burke Memorial Washington State Museum (Burke Museum), University of Washington, Seattle, WA. The human remains were removed from along the Columbia River in Chelan County, WA.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by Burke Museum professional staff in consultation with representatives of the Confederated Tribes of the Colville Reservation, Washington.

In 1966, human remains representing a minimum of three individuals were removed from 45-CH-201 along the Columbia River in Chelan County, WA. The human remains were collected under the direction of Brain Holmes as part of a field party of the University of Washington led by R.S. Kidd for the State of Washington Highway Survey Project. The human remains were accessioned by the Burke Museum in 1966 (Burke Accn. 1966-76). No known individuals were identified. No associated funerary objects are present. Stone debitage was noted on the site inventory form, but its whereabouts are unknown.

Based on archeological evidence, the human remains have been determined to be Native American. The skeletal morphology was indeterminate. Geographic affiliation is consistent with the historically documented territory of the Confederated Tribes of the Colville Reservation, Washington. The southern area of Lake Chelan was part of the aboriginal territory of the Chelan people. The Chelan spoke a Wenatchee dialect of the Interior Salish language. This area was incorporated into part of the Moses-Columbia Reservation in 1879. Descendants of the Chelan and Moses Columbia are members of the Confederated Tribes of the Colville Reservation, Washington.

Officials of the Burke Museum have determined that, pursuant to 25 U.S.C. 3001 (9-10), the human remains described above represent the physical remains of three individuals of Native American ancestry. Officials of the Burke Museum also have determined that, pursuant to 25 U.S.C. 3001 (2), there is a relationship of shared group identity that can be reasonably traced between the Native American human remains and the Confederated Tribes of the Colville Reservation, Washington.

Representatives of any other Indian tribe that believes itself to be culturally affiliated with the human remains should contact Dr. Peter Lape, Burke Museum, University of Washington, Box 353010, Seattle, WA 98195-3010, telephone (206) 685-2282, before September 18, 2006. Repatriation of the human remains to the Confederated Tribes of the Colville Reservation, Washington may proceed after that date if no additional claimants come forward.

The Burke Museum is responsible for notifying the Confederated Tribes of the Colville Reservation, Washington that this notice has been published.

Dated: July 24, 2006
Sherry Hutt,
Manager, National NAGPRA Program.

[FR Doc. E6-13586 Filed 8-16-06; 8:45 am]

BILLING CODE 4312-50-S